Proclamation 9030 of September 30, 2013

National Disability Employment Awareness Month, 2013

By the President of the United States of America

A Proclamation

Our Nation has always drawn its strength from the differences of our people, from a vast range of thought, experience, and ability. Every day, Americans with disabilities enrich our communities and businesses. They are leaders, entrepreneurs, and innovators, each with unique talents to contribute and points of view to express. During National Disability Employment Awareness Month, we nurture our culture of diversity and renew our commitment to building an American workforce that offers inclusion and opportunity for all.

Since the passage of the Americans with Disabilities Act, we have made great progress in removing barriers for hardworking Americans. Yet today, only 20 percent of Americans with disabilities, including veterans who became disabled while serving our country, participate in our labor force. We need their talent, dedication, and creativity, which is why my Administration proudly supports increased employment opportunities for people with disabilities. To that end, I remain dedicated to implementing Executive Order 13548, which called on Federal agencies to increase recruitment, hiring, and retention of people with disabilities. As a result of our efforts, the Federal Government is hiring people with disabilities at a higher rate than at any point in over three decades. Most recently, we updated the rules to make sure Federal contractors and subcontractors are doing more to recruit, hire, and promote qualified individuals with disabilities, including disabled veterans. And thanks to the Affordable Care Act, States are taking advantage of new options to support and expand home and community-based services.

In the years to come, I will remain committed to ensuring the Federal Government leads by example. This year, as we mark the 40th anniversary of the Rehabilitation Act, I will continue to marshal the full resources of my Administration toward effective and comprehensive implementation.

If we swing wide the doors of opportunity for our family, friends, and neighbors with disabilities, all of us will enjoy the benefits of their professional contributions. This month, let us uphold the ideals of equal access, equal opportunity, and a level playing field for all Americans.

NOW, THEREFORE, I, BARACK OBAMA, President of the United States of America, by virtue of the authority vested in me by the Constitution and the laws of the United States, do hereby proclaim October 2013 as National Disability Employment Awareness Month. I urge all Americans to embrace the talents and skills that individuals with disabilities bring to our workplaces and communities and to promote the right to equal employment opportunity for all people.

IN WITNESS WHEREOF, I have hereunto set my hand this thirtieth day of September, in the year of our Lord two thousand thirteen, and of the Independence of the United States of America the two hundred and thirty-eighth.

[FR Doc. 2013-24384

Filed 10-3-13; 8:45 am]

Billing code 3295-F4